DEPARTMENT OF JUSTICE

Notice of Lodging of Proposed Consent Decree Under the Comprehensive Environmental Response, Compensation, and Liability Act

On January 10, 2014, the Department of Justice lodged a proposed consent decree with the United States District Court for the District of Minnesota in the lawsuit entitled United States v. U.S. Borax Inc., Civil Action No. 0:14-cv-00118-DSD.

The proposed consent decree fully resolves claims of the U.S. Environmental Protection Agency (“EPA”) against U.S. Borax Inc. (“Borax”) for response costs, civil penalties, and potential treble damages under the Comprehensive Environmental Response, Compensation, and Liability Act (“CERCLA”), 42 U.S.C. 9601-9675, with respect to the South Minneapolis Residential Soil Contamination Superfund Site (“Site) in Minneapolis, Minnesota. A complaint, which was filed at the same time that the United States lodged the proposed consent decree, alleges that Borax was an operator of the Site during the period of disposal of hazardous substances and, as such, is liable for response costs under Section107(a) of CERCLA, 42 U.S.C. 9607(a). Further, the complaint alleges that Borax is liable for civil penalties and damages under Sections 106(b) and 107(c)(3) of CERCLA, 32 U.S.C. 9606(b), 9607(c)(3), because it failed to comply with a unilateral administrative order issued by EPA to undertake response actions at the Site. Under the proposed consent decree, Borax shall make a lump sum payment of $1,225,000 to EPA as reimbursement of response costs, and it shall make a lump sum payment of $25,000 for civil penalties and damages. Both payments shall be made to the United States within 30 days of entry of the Consent Decree.

The publication of this notice opens a period for public comment on the proposed consent decree. Comments should be addressed to the Assistant Attorney General, Environment and Natural Resources Division, and should refer to United States v. U.S. Borax Inc., D.J. Ref. No. 90-11-3-09719/3. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed consent decree may be examined and downloaded at this Justice Department Web site: http://www.usdoj.gov/enrd/Consent_Decrees.html. We will also provide a paper copy of the proposed consent decree upon written request and payment of reproduction costs. Please mail your request and payment to: Consent Decree Library, U.S. DOJ—ENRD, P.O. Box 7611, Washington, DC 20044-7611.

Please enclose a check or money order for $7.5 (30 pages at 25 cents per page reproduction cost) payable to the United States Treasury.

Maureen Katz,
Assistant Section Chief, Environmental Enforcement Section, Environment and Natural Resources Division.

[FR Doc. 2014-01129 Filed 1-21-14; 8:45 am]

BILLING CODE 4410-15-P